DEPARTMENT OF THE INTERIOR

Office of the Special Trustee for American Indians

Notice of Proposed Renewal of Information Collection: OMB Control Number 1035-0004, Trust Funds for Tribes and Individual Indians

AGENCY: Office of the Special Trustee for American Indians, Interior.

ACTION: Notice and request for comments.

SUMMARY: In compliance with section 3506(c)(2)(A) of the Paperwork Reduction Act of 1995, the Office of the Special Trustee for American Indians, Department of the Interior (DOI), announces that it has submitted a request for proposed extension of an information collection to the Office of Management and Budget and requests public comments on this submission.

DATES: OMB has up to 60 days to approve or disapprove the information collection request, but may respond after 30 days; therefore, public comments should be submitted to OMB by April 8, 2010, in order to be assured of consideration.

ADDRESSES: Send your written comments by facsimile to (202) 395-5806 or e-mail (OIRA_DOCKET@omb.eop.gov) to the Office of Information and Regulatory Affairs, Office of Management and Budget, Attention: Department of the Interior Desk Officer (1035-0004). Also, please send a copy of your comments to U.S. Department of the Interior, Office of the Special Trustee for American Indians, Attn. John Marshall, 4400 Masthead Street, NE., Albuquerque, New Mexico 87109, or via e-mail to john_marshall@ost.doi.gov. Individuals providing comments should reference OMB control number 1035-0004, “Trust Funds for Tribes and Individual Indians, 25 CFR 115.”

FOR FURTHER INFORMATION CONTACT: Requests for additional information on this information collection should be directed to John Marshall at U.S. Department of the Interior, Office of the Special Trustee for American Indians, 4400 Masthead Street, NE., Albuquerque, New Mexico 87109. You may also e-mail requests for further information to him at john_marshall@ost.doi.gov or call (505) 816-1096.

SUPPLEMENTARY INFORMATION:

I. Abstract

Office of Management and Budget (OMB) regulations at 5 CFR 1320, which implement the Paperwork Reduction Act of 1995 (Pub. L. 104-13), require that interested members of the public and affected parties have an opportunity to comment on information collection and recordkeeping activities (see 5 CFR 1320.8(d)). This notice identifies an information collection activity that the Office of the Special Trustee for American Indians has submitted to OMB for renewal.

The American Indian Trust Fund Management Reform Act of 1994 (Pub. L. 103-412) makes provisions for the Office of the Special Trustee for American Indians to administer trust fund accounts for individuals and tribes. The collection of information is required to facilitate the processing of deposits, investments, and distribution of monies held in trust by the U.S. Government and administered by the Office of the Special Trustee for American Indians. The collection of information provides the information needed to establish procedures to: Deposit and retrieve funds from accounts, perform transactions such as cashing checks, reporting lost or stolen checks, stopping payment of checks, and general verification for account activities.

The OMB granted a three-year extension on March 12, 2007. The Office of the Special Trustee for American Indians is requesting to extend the information collection approval authority in order to enable the Department of the Interior to continue to comply with the American Indian Trust Fund Management Reform Act of 1994.

II. Data

(1) Title: Trust Funds for Tribes and Individuals Indians, 25 CFR 115.

OMB Control Number: 1035-0004.

Current Expiration Date: March 31, 2010.

Type of Review: Information Collection Renewal.

Affected Entities: Individual Indian Monies (IIM) Account Holders.

Estimated annual number of respondents: 135,797.

Frequency of response: Four times a year.

(2) Annual reporting and recordkeeping burden:

Average annual reporting burden per respondent: 0.25 hours.

Total annual reporting: 135,797 hours.

(3) Description of the need and use of the information: This information collection is used to process deposits, investments, and distribution of monies held in trust by the Special Trustee for individual Indians in the administration of these accounts. The respondents submit information in order to gain or retain a benefit, namely, access to funds held in trust.

(4) As required under 5 CFR 1320.8(d), a Federal Register notice soliciting comments on the information collection was published on October 16, 2009 and an amended version correcting the date for the close of the comment period, on October 30, 2009 (74 FR 53292 and 74 FR 56209). No comments were received. This notice provides the public with an additional 30 days in which to comment on the proposed information collection activity.

III. Request for Comments

The Department of the Interior invites comments on:

(a) Whether the collection of information is necessary for the proper performance of the functions of the agency, including whether the information will have practical utility;

(b) The accuracy of the agency's estimate of the burden of the collection and the validity of the methodology and assumptions used;

(c) Ways to enhance the quality, utility, and clarity of the information to be collected; and

(d) Ways to minimize the burden of the collection of information on those who are to respond, including through the use of appropriate automated, electronic, mechanical, or other collection techniques or other forms of information technology.

“Burden” means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

All written comments, with names and addresses, will be available for public inspection by appointment with the point of contact given in the ADDRESSES section. The comments, with names and addresses, will be available for public view during regular business hours, excluding legal holidays. If you wish us to withhold your personal information, you must prominently state at the beginning of your comment what personal information you want us to withhold. We will honor your request to the extent allowable by law.

An agency may not conduct or sponsor, and a person is not required to respond to, a collection of information unless it displays a currently valid Office of Management and Budget control number.

Dated: March 3, 2010.
Douglas A. Lords,
Deputy Special Trustee-Field Operations.

[FR Doc. 2010-4930 Filed 3-8-10; 8:45 am]

BILLING CODE 4310-2W-P